DEPARTMENT OF ENERGY

Federal Energy Regulatory Commission

Combined Notice of Filings # 1

November 17, 2009.

Take notice that the Commission received the following electric corporate filings:

Docket Numbers: EC10-21-000.

Applicants: Noble Great Plains Windpark, LLC.

Description: Noble Great Plains Windpark, LLC, Application for Authorization of Transaction Pursuant to Section 203 of the Federal Power Act, Request for Waivers of Filing Requirements, Confidential Treatment of Transaction Documents.

Filed Date: 11/13/2009.

Accession Number: 20091113-5152.

Comment Date: 5 p.m. Eastern Time on Friday, December 04, 2009.

Take notice that the Commission received the following exempt wholesale generator filings:

Docket Numbers: EG10-8-000.

Applicants: Star Point Wind Project LLC.

Description: Notice of Self-Certification of Exempt Wholesale Generator Status of Star Point Wind Project LLC.

Filed Date: 11/17/2009.

Accession Number: 20091117-5022.

Comment Date: 5 p.m. Eastern Time on Tuesday, December 08, 2009.

Take notice that the Commission received the following electric rate filings:

Docket Numbers: ER97-2801-028; ER96-719-027; ER99-2156-020; ER07-1236-004.

Applicants: PacifiCorp; MidAmerican Energy Company; Cordova Energy Company LLC; Yuma Cogeneration Associates.

Description: PacifiCorp et al submits supplement to the Notice of Change in Status re market based rate authority filed on 10/2/09.

Filed Date: 11/09/2009.

Accession Number: 20091112-0098.

Comment Date: 5 p.m. Eastern Time on Monday, November 30, 2009.

Docket Numbers: ER00-1026-020; ER00-33-015; ER01-1315-009; ER01-2401-015; ER01-751-015; ER05-442-007; ER09-1278-002; ER09-38-003; ER98-2184-018; ER98-2185-018; ER98-2186-019; ER99-1761-009; ER99-1773-013; ER99-2284-013.

Applicants: Indianapolis Power & Light Company; AES Placerita, Inc.; AES Ironwood LLC; AES Red Oak LLC; Mountain View Power Partners, LLC; Condon Wind Power, LLC; AES Armenia Mountain Wind, LLC; AES Energy Storage, LLC; AES Huntington Beach, L.L.C.; AES Alamitos, Inc.; AES Redondo Beach, L.L.C.; AES Eastern Energy, LP; AES Creative Resources LP; AEE 2 LLC.

Description: The AES Corporation submits revised tariff sheets updating seller category designation for the Northwest Power Pool Regions et al.

Filed Date: 11/06/2009.

Accession Number: 20091110-0042.

Comment Date: 5 p.m. Eastern Time on Friday, November 27, 2009.

Docket Numbers: ER01-2659-015; ER03-674-014; ER05-453-005; ER05-89-013; ER07-650-003; ER95-1528-021; ER96-1088-048.

Applicants: Wisconsin Public Service Corporation, Upper Peninsula Power Company, Wisconsin River Power Company, Integrys Energy Services, Inc., WPS Power Development, LLC, Quest Energy, LLC, Combined Locks Energy Center, LLC.

Description: Intergys Energy Group, Inc submits Supplement to their June 18, 2009 Application for renewal of their market-based rate etc.

Filed Date: 11/09/2009.

Accession Number: 20091112-0093.

Comment Date: 5 p.m. Eastern Time on Monday, November 30, 2009.

Docket Numbers: ER06-615-056; ER09-556-004; ER08-367-009.

Applicants: California Independent System Operator Corporation.

Description: California Independent System Operator Corporation submits informational filing to reflect revised accepted effective date.

Filed Date: 11/13/2009.

Accession Number: 20091116-0243.

Comment Date: 5 p.m. Eastern Time on Friday, December 04, 2009.

Docket Numbers: ER06-1071-001.

Applicants: Kuehne Chemical Company, Inc.

Description: Kuehne Chemical Company, Inc submits amended market power analysis.

Filed Date: 11/06/2009.

Accession Number: 20091112-0092.

Comment Date: 5 p.m. Eastern Time on Friday, November 27, 2009.

Docket Numbers: ER06-1185-003.

Applicants: Pace Global Asset Management, LLC.

Description: Pace Global Asset Management, LLC's amended, revised market based rate tariff, updated market power analysis, and application for status as a Category 1 Seller.

Filed Date: 11/12/2009.

Accession Number: 20091116-0206.

Comment Date: 5 p.m. Eastern Time on Thursday, December 03, 2009.

Docket Numbers: ER08-1439-002; EL09-32-002.

Applicants: New Brunswick Power Generation Corporation.

Description: New Brunswick Power Generation Corporation submits additional information re NBP's 8/10/09 compliance filing.

Filed Date: 11/09/2009.

Accession Number: 20091112-0108.

Comment Date: 5 p.m. Eastern Time on Monday, November 30, 2009.

Docket Numbers: ER09-633-002; ER99-1248-001; ER08-851-003; ER01-1784-011; ER03-222-010; ER08-333-004.

Applicants: SWG Colorado, LLC; Harbor Cogeneration Co; Valencia Power, LLC; Fountain Valley Power, LLC; Las Vegas Cogeneration II, LLC; Las Vegas Cogeneration LP.

Description: Southwest Generation Operating Co, LLC submits revisions to market-based rate tariffs in compliance with Order 697 and 697-A.

Filed Date: 11/06/2009.

Accession Number: 20091110-0043.

Comment Date: 5 p.m. Eastern Time on Friday, November 27, 2009.

Docket Numbers: ER09-650-002.

Applicants: PJM Interconnection LLC.

Description: PJM Interconnection, LLC submits response to the 10/8/09 notice requesting additional information.

Filed Date: 11/09/2009.

Accession Number: 20091112-0091.

Comment Date: 5 p.m. Eastern Time on Monday, November 30, 2009.

Docket Numbers: ER09-1543-003.

Applicants: Midwest Independent Transmission System Operator, Inc.

Description: Midwest Independent Transmission System Operator, Inc. submits Second Revised Sheet 496 et al to FERC Electric Tariff, Fourth Revised Volume 1.

Filed Date: 11/09/2009.

Accession Number: 20091110-0139.

Comment Date: 5 p.m. Eastern Time on Monday, November 30, 2009.

Docket Numbers: ER09-1581-003.

Applicants: Midwest Independent Transmission System Operator, Inc.

Description: Midwest Independent Transmission System Operator, Inc. submits revisions to the Amended and Restated Generator Interconnection Agreement with Northern States Power Company.

Filed Date: 11/09/2009.

Accession Number: 20091110-0137.

Comment Date: 5 p.m. Eastern Time on Monday, November 30, 2009.

Docket Numbers: ER10-25-001.

Applicants: Xcel Energy Services Inc.

Description: Xcel Energy Services Inc submits Attachment A as the cancellation coversheet for the Volume 5 Tariff.

Filed Date: 11/06/2009.

Accession Number: 20091110-0044.

Comment Date: 5 p.m. Eastern Time on Friday, November 27, 2009.

Docket Numbers: ER10-192-001.

Applicants: Public Service Company of Colorado.

Description: Public Service Company of Colorado submits errata to the 10/30/09.

Filed Date: 11/06/2009.

Accession Number: 20091110-0045.

Comment Date: 5 p.m. Eastern Time on Friday, November 27, 2009.

Docket Numbers: ER10-231-000.

Applicants: New York Independent System Operator, Inc.

Description: New York Independent System Operator, Inc. submits revisions to its Market Administration and Control Area Services Tariff.

Filed Date: 11/06/2009.

Accession Number: 20091110-0039.

Comment Date: 5 p.m. Eastern Time on Friday, November 27, 2009.

Docket Numbers: ER10-232-000.

Applicants: Los Medanos Energy Center, LLC.

Description: Los Medanos Energy Center, LLC submits notice of termination of Rate Schedule FERC No 2.

Filed Date: 11/06/2009.

Accession Number: 20091110-0041.

Comment Date: 5 p.m. Eastern Time on Friday, November 27, 2009.

Docket Numbers: ER10-233-000.

Applicants: PacifiCorp.

Description: PacifiCorp submits Facilities Maintenance Agreement.

Filed Date: 11/06/2009.

Accession Number: 20091110-0040.

Comment Date: 5 p.m. Eastern Time on Friday, November 27, 2009.

Docket Numbers: ER10-235-000.

Applicants: E. ON U.S. LLC.

Description: E ON U.S., LLC submits amendment to the interconnection agreement with East Kentucky Power Cooperative.

Filed Date: 11/06/2009.

Accession Number: 20091110-0141.

Comment Date: 5 p.m. Eastern Time on Friday, November 27, 2009.

Docket Numbers: ER10-238-000.

Applicants: Upper Peninsula Power Company.

Description: Upper Peninsula Power Company submits revisions to Attachments D and E of its Original Rate Schedule FERC 54 for provision of Load-Following Full Requirement Service to Alger Delta Cooperative Electric Association.

Filed Date: 11/09/2009.

Accession Number: 20091110-0131.

Comment Date: 5 p.m. Eastern Time on Monday, November 30, 2009.

Docket Numbers: ER10-239-000.

Applicants: PacifiCorp.

Description: PacifiCorp submits Transmission Interconnection Agreement for Points of Delivery dated 10/26/09 with Garkane Energy Cooperative, Inc designated as Rate Schedule FERC 654 etc.

Filed Date: 11/09/2009.

Accession Number: 20091110-0133.

Comment Date: 5 p.m. Eastern Time on Monday, November 30, 2009.

Docket Numbers: ER10-240-000.

Applicants: PacifiCorp.

Description: PacifiCorp submits Network Integration Transmission Service Agreement dated 11/2/09 with Tri-State Generation and Transmission Association, Inc designated as Service Agreement 628, Seventh Revised Volume 11 etc.

Filed Date: 11/09/2009.

Accession Number: 20091110-0132.

Comment Date: 5 p.m. Eastern Time on Monday, November 30, 2009.

Docket Numbers: ER10-241-000.

Applicants: PacifiCorp.

Description: PacifiCorp submits Transmission Interconnection Agreement for Points of Delivery at Foote Creek dated 10/26/09 with Tri-State Generation and Transmission Association, Inc etc.

Filed Date: 11/09/2009.

Accession Number: 20091110-0134.

Comment Date: 5 p.m. Eastern Time on Monday, November 30, 2009.

Docket Numbers: ER10-242-000.

Applicants: Southwest Power Pool, Inc.

Description: Southwest Power Pool, Inc submits revised pages to its Open Access Transmission Tariff to implement a rate change for Oklahoma Gas and Electric Company etc.

Filed Date: 11/09/2009.

Accession Number: 20091110-0135.

Comment Date: 5 p.m. Eastern Time on Monday, November 30, 2009.

Docket Numbers: ER10-243-000.

Applicants: Southern California Edison Company.

Description: Southern California Edison Company submits a revised rate sheet to the Amended and Restated Mandalay Generating Station Radial Lines Agreement between CE and RRI Energy Mandalay, Inc.

Filed Date: 11/10/2009.

Accession Number: 20091110-0126.

Comment Date: 5 p.m. Eastern Time on Tuesday, December 01, 2009.

Docket Numbers: ER10-244-000.

Applicants: Southern California Edison Company.

Description: Southern California Edison Company submits a revised rate sheet to the Ameresco Chiquita Energy, LLC Service Agreement for Wholesale Distribution Service, Service Agreement 199 etc.

Filed Date: 11/10/2009.

Accession Number: 20091110-0125.

Comment Date: 5 p.m. Eastern Time on Tuesday, December 01, 2009.

Docket Numbers: ER10-247-000.

Applicants: Pacific Gas and Electric Company.

Description: Pacific Gas and Electric Co submits a Transmission Facilities Agreement for the Ravenswood Bore Bay Tunnel Project.

Filed Date: 11/10/2009.

Accession Number: 20091112-0140.

Comment Date: 5 p.m. Eastern Time on Tuesday, December 01, 2009.

Docket Numbers: ER10-248-000.

Applicants: Allegheny Power.

Description: PJM Interconnection, LLC submits the Second Revised Sheet No. 313A to FERC Electric Tariff, Sixth Revised Volume No. 1.

Filed Date: 11/10/2009.

Accession Number: 20091112-0139.

Comment Date: 5 p.m. Eastern Time on Tuesday, December 01, 2009.

Docket Numbers: ER10-249-000.

Applicants: Illinois Power Company & Ameren Illinois.

Description: Illinois Power Co etc. submits a revised Exhibit A to the Joint Ownership Agreement.

Filed Date: 11/10/2009.

Accession Number: 20091112-0138.

Comment Date: 5 p.m. Eastern Time on Tuesday, December 01, 2009.

Docket Numbers: ER10-250-000.

Applicants: Florida Power & Light Company.

Description: Florida Power & Light Company submits Original Rate Schedule FERC 319 to be effective 1/1/10.

Filed Date: 11/10/2009.

Accession Number: 20091112-0123.

Comment Date: 5 p.m. Eastern Time on Tuesday, December 01, 2009.

Docket Numbers: ER10-251-000.

Applicants: Florida Power & Light Company.

Description: Florida Power & Light Company submits Original Service Agreement 279 to its FERC Electric Tariff, 2nd Revised Volume 6.

Filed Date: 11/10/2009.

Accession Number: 20091112-0124.

Comment Date: 5 p.m. Eastern Time on Tuesday, December 01, 2009.

Docket Numbers: ER10-252-000.

Applicants: Florida Power & Light Company.

Description: Florida Power & Light Co submits an Interconnection Agreement with Lee County, Florida.

Filed Date: 11/10/2009.

Accession Number: 20091112-0141.

Comment Date: 5 p.m. Eastern Time on Tuesday, December 01, 2009.

Docket Numbers: ER10-254-000.

Applicants: Tucson Electric Power Company.

Description: Tucson Electric Power Co submits an Agreement for the Interconnection of the Electrical System etc.

Filed Date: 11/12/2009.

Accession Number: 20091113-0136.

Comment Date: 5 p.m. Eastern Time on Thursday, December 03, 2009.

Docket Numbers: ER10-255-000.

Applicants: Carolina Power & Light Company.

Description: Carolina Power & Light Co submits the revised power sales agreement with North Carolina Electric Membership Corp.

Filed Date: 11/12/2009.

Accession Number: 20091113-0138.

Comment Date: 5 p.m. Eastern Time on Thursday, December 03, 2009.

Docket Numbers: ER10-257-000.

Applicants: American Electric Power Service Corporation.

Description: American Electric Power Service Corporation submits the fully executed Letter Agreement dated 8/28/09 with Oklahoma Gas and Electric.

Filed Date: 11/13/2009.

Accession Number: 20091113-0150.

Comment Date: 5 p.m. Eastern Time on Friday, December 04, 2009.

Docket Numbers: ER10-258-000.

Applicants: American Electric Power Service Corporation.

Description: American Electric Power Service Corporation submits fully executed Letter Agreement dated 8/28/09 with Oklahoma Gas and Electric.

Filed Date: 11/13/2009.

Accession Number: 20091113-0151.

Comment Date: 5 p.m. Eastern Time on Friday, December 04, 2009.

Docket Numbers: ER10-259-000.

Applicants: Public Service Company of New Mexico.

Description: Public Service Company of New Mexico submits Letter Agreement to Facilitate Installation of the Series Reactors.

Filed Date: 11/13/2009.

Accession Number: 20091113-0152.

Comment Date: 5 p.m. Eastern Time on Friday, December 04, 2009.

Docket Numbers: ER10-260-000.

Applicants: Southwestern Public Service Company.

Description: Southwestern Public Service Co submits a revised rate schedule No. 102.

Filed Date: 11/12/2009.

Accession Number: 20091113-0156.

Comment Date: 5 p.m. Eastern Time on Thursday, December 03, 2009.

Docket Numbers: ER10-261-000.

Applicants: Southwest Power Pool, Inc.

Description: Southwest Power Pool, Inc submits an executed Large Generator Interconnection Agreement with Transmission Provider, Taloga Wind, LLC etc.

Filed Date: 11/12/2009.

Accession Number: 20091113-0153.

Comment Date: 5 p.m. Eastern Time on Thursday, December 03, 2009.

Docket Numbers: ER10-262-000.

Applicants: MMC Chula Vista LLC.

Description: MMC Chula Vista LLC submits notice of cancellation of FERC Electric Tariff, Original Volume No. 1.

Filed Date: 11/13/2009.

Accession Number: 20091116-0195.

Comment Date: 5 p.m. Eastern Time on Friday, December 04, 2009.

Docket Numbers: ER10-263-000.

Applicants: MMC Escondido LLC.

Description: MMC Escondido LLC submits notice of cancellation of its FERC Electric Tariff, Original Volume No. 1.

Filed Date: 11/13/2009.

Accession Number: 20091116-0194.

Comment Date: 5 p.m. Eastern Time on Friday, December 04, 2009.

Docket Numbers: ER10-264-000.

Applicants: MMC Mid-Sun, LLC.

Description: MMC Mid-Sun, LLC submits notice of cancellation of FERC Electric Tariff, Original Volume No. 1.

Filed Date: 11/13/2009.

Accession Number: 20091116-0193.

Comment Date: 5 p.m. Eastern Time on Friday, December 04, 2009.

Docket Numbers: ER10-265-000.

Applicants: Western Kentucky Energy Corporation.

Description: Western Kentucky Energy Corporation submits notice of cancellation of its First revised Rate Schedule FERC No. 1.

Filed Date: 11/13/2009.

Accession Number: 20091116-0192.

Comment Date: 5 p.m. Eastern Time on Friday, December 04, 2009.

Docket Numbers: ER10-266-000.

Applicants: Trans Bay Cable LLC.

Description: Trans Bay Cable LLC submits initial Transmission Owner Tariff, FERC Electric Tariff Original Volume No. 1.

Filed Date: 11/13/2009.

Accession Number: 20091116-0191.

Comment Date: 5 p.m. Eastern Time on Friday, December 04, 2009.

Docket Numbers: ER10-267-000.

Applicants: Southwest Power Pool Inc.

Description: Southwest Power Pool, Inc. submits revisions to membership agreement.

Filed Date: 11/13/2009.

Accession Number: 20091116-0190.

Comment Date: 5 p.m. Eastern Time on Friday, December 04, 2009.

Docket Numbers: ER10-268-000.

Applicants: PJM Interconnection, LLC.

Description: PJM Interconnection, LLC submits amendments to Schedule 12-Appendix for the PJM Tariff.

Filed Date: 11/13/2009.

Accession Number: 20091116-0196.

Comment Date: 5 p.m. Eastern Time on Friday, December 04, 2009.

Docket Numbers: ER99-2311-013; ER97-2846-016.

Applicants: Carolina Power & Light Company; Florida Power Corporation.

Description: Amended Notice of Change in Status of Florida Power Corporation, et al.

Filed Date: 11/13/2009.

Accession Number: 20091113-5084.

Comment Date: 5 p.m. Eastern Time on Friday, December 04, 2009.

Take notice that the Commission received the following open access transmission tariff filings:

Docket Numbers: OA08-27-004.

Applicants: E.ON U.S. LLC.

Description: E.ON US. LLC submits revisions to Attachment K of their joint Open Access Transmission Tariff etc, to be effective 11/18/09.

Filed Date: 11/06/2009.

Accession Number: 20091110-0136.

Comment Date: 5 p.m. Eastern Time on Friday, November 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-28106 Filed 11-23-09; 8:45 am]

BILLING CODE 6717-01-P